DEPARTMENT OF COMMERCE

International Trade Administration

[A-570-162]

Certain Glass Wine Bottles From the People's Republic of China: Final Affirmative Determination of Sales at Less Than Fair Value and Final Affirmative Determination of Critical Circumstances, in Part

AGENCY: Enforcement and Compliance, International Trade Administration, Department of Commerce.

SUMMARY: The U.S. Department of Commerce (Commerce) determines that certain glass wine bottles (wine bottles) from the People's Republic of China (China) are being, or are likely to be, sold in the United States at less than fair value (LTFV) for the period of investigation (POI) April 1, 2023, through September 30, 2023.

DATES: Applicable January 2, 2025.

FOR FURTHER INFORMATION CONTACT: Carolyn Adie, Frank Schmitt, or Jacob Waddell, AD/CVD Operations, Office VI, Enforcement and Compliance, International Trade Administration, U.S. Department of Commerce, 1401 Constitution Avenue NW, Washington, DC 20230; telephone: (202) 482-6250, (202) 482-4880, or (202) 482-1369, respectively.

SUPPLEMENTARY INFORMATION:

Background

On August 9, 2024, Commerce published in the Federal Register its preliminary affirmative determination in the LTFV investigation of wine bottles from China.¹ We invited interested parties to comment on the Preliminary Determination.

¹ See Certain Glass Wine Bottles from the People's Republic of China: Preliminary Affirmative Determination of Sales at Less Than Fair Value, Preliminary Affirmative Determination of Critical Circumstances, in Part, and Postponement of Final Determination and Extension of Provisional Measures, 89 FR 65331 (August 9, 2024) (Preliminary Determination), and accompanying Preliminary Decision Memorandum (PDM).

A summary of the events that occurred since Commerce published the Preliminary Determination, as well as a full discussion of the issues raised by parties for this final determination, may be found in the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

² See Memorandum, “Issues and Decision Memorandum for the Final Affirmative Determination in the Less-Than-Fair-Value Investigation of Certain Glass Wine Bottles from the People's Republic of China,” dated concurrently with, and hereby adopted by, this notice (Issues and Decision Memorandum).

Scope of the Investigation

The products covered by this investigation are wine bottles from China. For a complete description of the scope of this investigation, see Appendix I to this notice.

Scope Comments

On August 19, 2024, Commerce published the final scope memorandum for this investigation.³ Commerce is not modifying the scope language as it appeared in the Initiation Notice and Preliminary Determination for the final determination.⁴ See the scope in Appendix I to this notice.

³ See Memorandum, “Glass Wine Bottles from the People's Republic of China, Chile, and Mexico: Final Scope Decision Memorandum,” dated August 19, 2024.

⁴ See Certain Glass Wine Bottles from Chile, the People's Republic of China, and Mexico: Initiation of Less-Than-Fair-Value Investigations, 89 FR 4911 (January 25, 2024) (Initiation Notice).

Final Affirmative Determination of Critical Circumstances, in Part

Commerce preliminarily determined, in accordance with section 733(e)(1) of the Tariff Act of 1930, as amended (the Act), and 19 CFR 351.206(c)(1), that critical circumstances exist with respect to imports of wine bottles for the China-wide entity.⁵ For the final determination, pursuant to section 735(a)(3)(B) of the Act and 19 CFR 351.206, we find that critical circumstances exist for Shandong Changyu, the non-selected separate rate companies, and the China-wide entity.⁶

⁵ See Preliminary Determination, 89 FR at 65331.

⁶ See Issues and Decision Memorandum at 2-4.

Verification

As provided in section 782(i) of the Act, Commerce conducted verification of the sales and factors of production information submitted by Shandong Changyu Glass Co., Ltd. (Shandong Changyu), Qinhuangdao Ruiquan Glassware Co., Ltd. (Ruiquan), and Guangdong Huaxing Glass Co., Ltd. (Guangdong Huaxing), using standard verification procedures.⁷

⁷ See Memoranda, “Verification of the Sales Response of Qinhuangdao Ruiquan Glassware Co., Ltd.,” dated October 16, 2024; “Verification of the Factors of Production Response of Guangdong Huaxing Glass Co., Ltd.,” dated October 16, 2024; and “Verification of the Responses of Shandong Changyu Glass Co., Ltd.,” dated October 17, 2024.

Analysis of Comments Received

The issues raised in the case and rebuttal briefs by the parties in this investigation are discussed in the Issues and Decision Memorandum. For a list of the issues raised by interested parties and addressed in the Issues and Decision Memorandum, see Appendix II.

Changes Since the Preliminary Determination

Based on our review and analysis of the information at verification and comments received from interested parties, we made certain changes to the calculations of Shandong Changyu and Ruiquan's estimated weighted-average dumping margins. We also corrected the name of Chongqing Hoson Glass Co., Ltd. For a discussion of these changes, see the Issues and Decision Memorandum.

China-Wide Entity and Use of Adverse Facts Available

Consistent with the Preliminary Determination,⁸ Commerce continues to find, pursuant to sections 776(a) and (b) of the Act, that the use of facts otherwise available, with adverse inferences, is warranted in determining the dumping rate for the China-wide entity. For this final determination, as adverse facts available (AFA), we have continued to assign a rate of 218.15 percent, which is the highest calculated individual dumping margin of any respondent in the investigation, to the China-wide entity.⁹

⁸ See Preliminary Determination PDM at 15-18.

⁹ Id.

Separate Rates

Other than one comment concerning the spelling of Chongqing Hoson Glass Co., Ltd.'s name, no interested party commented on Commerce's preliminary separate rate determinations,¹⁰ and we have no basis to reconsider those determinations. Accordingly, we continue to find that Shandong Changyu and Ruiquan, and certain non-individually examined companies that are listed in the rate table below, are eligible for a separate rate.

¹⁰ Id. at 8-15.

In calculating the rate for non-individually examined respondents that received a separate rate in a non-market economy LTFV investigation, Commerce normally looks to section 735(c)(5)(A) of the Act, which pertains to the calculation of the all-others rate in a market economy LTFV investigation, for guidance. Pursuant to section 735(c)(5)(A) of the Act, normally this rate shall be an amount equal to the weighted average of the estimated weighted-average dumping margins established for those companies individually examined, excluding any dumping margins that are zero, de minimis, or based entirely on facts available under section 776 of the Act. The statute further provides that, where all calculated dumping margins are zero, de minimis, or based entirely on facts available under section 776 of the Act, Commerce may use “any reasonable method” for assigning the rate to non-selected respondents.

Commerce has calculated an estimated weighted-average dumping margin for the two mandatory respondents that are eligible for a separate rate, Shandong Changyu and Ruiquan, that is not zero, de minimis, or based entirely on facts available. Therefore, in accordance with section 735(c)(5)(A) of the Act, we have assigned Shandong Changyu and Ruiquan's calculated estimated weighted-average dumping margin to the non-individually examined respondents that received a separate rate.

Combination Rates

Consistent with the Preliminary Determination, and Policy Bulletin 05.1,¹¹ Commerce calculated combination rates for the respondents that are eligible for a separate rate.

¹¹ See Enforcement and Compliance's Policy Bulletin No. 05.1, regarding, “Separate-Rates Practice and Application of Combination Rates in Antidumping Investigations involving Non-Market Economy Countries,” (April 5, 2005) (Policy Bulletin 05.1), available at https://access.trade.gov/Resources/policy/bull05-1.pdf.

Final Determination

Commerce determines that the following estimated weighted-average dumping margins exist:

¹² Commerce continues to determine that Shandong Changyu Glass Co., Ltd.; Yantai Changyu Glass Co., Ltd.; Yantai Changyu Glass Printing Co., Ltd. comprise a single entity. See Issues and Decision Memorandum.

Producer | Exporter | Weighted-average dumping margin (percent)
Guangdong Huaxing Glass Co., Ltd | Qinhuangdao Ruiquan Glassware Co., Ltd | 29.31
Foshan Huaxing Glass Co., Ltd | Qinhuangdao Ruiquan Glassware Co., Ltd | 29.31
Qinhuangdao Fangyuan Packaging Glass Co., Ltd | Qinhuangdao Ruiquan Glassware Co., Ltd | 29.31
Qinhuangdao Suokun Glassware Co., Ltd | Qinhuangdao Ruiquan Glassware Co., Ltd | 29.31
Shandong Changyu Glass Co., Ltd./Yantai Changyu Glass Co., Ltd./Yantai Changyu Glass Printing Co., Ltd.¹² | Shandong Changyu Glass Co., Ltd./Yantai Changyu Glass Co., Ltd./Yantai Changyu Glass Printing Co., Ltd | 31.24
Chongqing Lanya Glass Co., Limited | Chongqing Jewhui Packaging Co., Ltd | 30.99
Chongqing Hoson Glass Co., Ltd | Chongqing Hoson Glass Co., Ltd | 30.99
Xuzhou Huihe International Trade Co., Ltd | Xuzhou Huihe International Trade Co., Ltd | 30.99
Shandong Huapeng Shidao Glass Products Co., Ltd | Zibo Creative International Trade Co., Ltd | 30.99
Shandong Jingbo Group Co., Ltd | Zibo Creative International Trade Co., Ltd | 30.99
Yantai NBC Glass Packaging Co., Ltd | Zibo Creative International Trade Co., Ltd | 30.99
Shandong Jingbo Group Co., Ltd | Zibo Sunfect International Trade Co., Ltd | 30.99
Yantai NBC Glass Packaging Co., Ltd | Zibo Sunfect International Trade Co., Ltd | 30.99
China-Wide Entity |  | * 218.15
* Rate based on adverse facts available.

Disclosure

Commerce intends to disclose the calculations performed in this final determination to interested parties within five days of any public announcement or, if there is no public announcement, within five days of the date of publication of this notice in the Federal Register in accordance with 19 CFR 351.224(b).

Continuation of Suspension of Liquidation

In accordance with section 735(c)(1)(B) of the Act, we will instruct U.S. Customs and Border Protection (CBP) to continue to suspend liquidation of all appropriate entries of subject merchandise, as described in Appendix I of this notice, which were entered, or withdrawn from warehouse, for consumption on or after August 9, 2024, the date of publication in the Federal Register of the Preliminary Determination.

Section 733(e)(2) of the Act provides that, given an affirmative determination of critical circumstances, any suspension of liquidation shall apply to unliquidated entries of subject merchandise entered, or withdrawn from warehouse, for consumption on or after the later of: (a) the date which is 90 days before the date on which the suspension of liquidation was first ordered; or (b) the date on which notice of initiation of the investigation was published. Commerce finds that critical circumstances exist for imports of subject merchandise produced or exported by Shandong Changyu, the non-selected separate rate companies, and the China-wide entity. In accordance with section 733(e)(2)(A) of the Act, the suspension of liquidation shall apply to unliquidated entries of shipments of subject merchandise from the producer(s) or exporter(s) identified in this paragraph that were entered, or withdrawn from warehouse, for consumption on or after May 11, 2024, which is 90 days before the publication of the Preliminary Determination.

Pursuant to section 735(c)(1)(B)(ii) of the Act and 19 CFR 351.210(d), upon the publication of this notice, Commerce will instruct CBP to require a cash deposit for estimated antidumping duties for appropriate entries.

Commerce will instruct CBP to require the following cash deposits of estimated antidumping duties for all appropriate entries: (1) for the producer/exporter combinations listed in the table above, the applicable cash deposit rate is listed in the table for that combination; (2) for all combinations of Chinese producers/exporters of the merchandise under consideration that have not established eligibility for a separate rate, the cash deposit rate will be equal to the cash deposit rate listed for the China-wide entity in the table above; and (3) for all third-country exporters of the merchandise under consideration that are not listed in the table above, the cash deposit rate is the cash deposit rate applicable to the Chinese producer/exporter combination or the China-wide entity that supplied that third-country exporter. These suspension of liquidation instructions will remain in effect until further notice.

U.S. International Trade Commission Notification

In accordance with section 735(d) of the Act, we will notify the U.S. International Trade Commission (ITC) of this final affirmative determination of sales at LTFV. Because the final determination in this investigation is affirmative, in accordance with section 735(b)(2) of the Act, the ITC will make its final determination as to whether the domestic industry in the United States is materially injured, or threatened with material injury, by reason of imports of wine bottles no later than 45 days after this final determination. If the ITC determines that material injury or threat of material injury does not exist, the proceeding will be terminated and all cash deposits will be refunded or canceled, and suspension of liquidation will be lifted. If the ITC determines that such injury does exist, Commerce will issue an antidumping duty order directing CBP to assess, upon further instructions by Commerce, antidumping duties on all imports of the subject merchandise that are entered, or withdrawn from warehouse, for consumption on or after the effective date of the suspension of liquidation, as discussed above in the “Continuation of Suspension of Liquidation” section.

Administrative Protective Order

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination and this notice are issued and published pursuant to sections 735(d) and 777(i)(1) of the Act, and 19 CFR 351.210(c).

Dated: December 23, 2024.
Abdelali Elouaradia,
Deputy Assistant Secretary for Enforcement and Compliance.

Appendix I

Scope of the Investigation

The merchandise covered by this investigation is certain narrow neck glass bottles, with a nominal capacity of 740 milliliters (25.02 ounces) to 760 milliliters (25.70 ounces); a nominal total height between 24.8 centimeters (9.75 inches) to 35.6 centimeters (14 inches); a nominal base diameter between 4.6 centimeters (1.8 inches) to 11.4 centimeters (4.5 inches); and a mouth with an outer diameter of between 25 millimeters (.98 inches) to 37.9 millimeters (1.5 inches); frequently referred to as a “wine bottle.” In scope merchandise may include but is not limited to the following shapes: Bordeaux (also known as “Claret”), Burgundy, Hock, Champagne, Sparkling, Port, Provence, or Alsace (also known as “Germanic”). In scope glass bottles generally have an approximately round base and have shapes including but not limited to, straight-sided, a tapered slope from shoulder (i.e., the sloping part of the bottle between the neck and the body) to base, or a long neck with sloping shoulders to a wider base. The scope includes glass bottles, whether or not clear, whether or not colored, with or without a punt (i.e., an indentation on the underside of the bottle), and with or without design or functional enhancements (including, but not limited to, embossing, labeling, or etching). In scope merchandise is made of non-“free blown” glass, i.e., in scope merchandise is produced with the use of a mold and is distinguished by mold seams, joint marks, or parting lines. In scope merchandise is unfilled and may be imported with or without a closure, including a cork, stelvin (screw cap), crown cap, or wire cage and cork closure.

Excluded from the scope of this investigation is: (1) glass containers made of borosilicate glass, meeting United States Pharmacopeia requirements for Type 1 pharmaceutical containers; and (2) glass containers without a “finish” (i.e., the section of a container at the opening including the lip and ring or collar, threaded or otherwise compatible with a type of closure, including but not limited to a cork, stelvin (screw cap), crown cap, or wire cage and cork closure).

Glass bottles subject to the investigation are specified within the Harmonized Tariff Schedule of the United States (HTSUS) under subheading 7010.90.5019. The HTSUS subheading is provided for convenience and customs purposes only. The written description of the scope of the investigations is dispositive.

Appendix II

List of Topics Discussed in the Issues and Decision Memorandum

I. Summary

II. Background

III. Final Affirmative Determination of Critical Circumstances, in Part

IV. Separate Rates

V. Changes Since the Preliminary Determination

VI. Application of Facts Available and Use of Adverse Inference

VII. Discussion of the Issues

Comment 1: Whether Commerce Should Rely on Chilean Data to Value Factors of Production

Comment 2: Whether Reliance on Bulgarian Data is Contrary to Law and Unsupported by Substantial Evidence

Comment 3: Whether Commerce Should Apply Either Total or Partial Adverse Facts Available (AFA) to Both Respondents

3A: Ruiquan's Product Finish Control Number (CONNUM) Characteristic

3B: Ruiquan's Standard Working Hours

3C: Ruiquan's Packaging CONNUM Characteristic

3D: Ruiquan's Labor Reporting

3E: Ruiquan's Identification of In-Scope Products

3F: Shandong Changyu's Factor of Production Reporting and Packaging CONNUM Characteristic

VIII. Recommendation

[FR Doc. 2024-31450 Filed 12-31-24; 8:45 am]

BILLING CODE 3510-DS-P